ENVIRONMENTAL PROTECTION AGENCY

[FRL-10021-24-OA]

Local Government Advisory Committee and Small Communities Advisory Subcommittee: Request for Nominations

AGENCY: Environmental Protection Agency.

ACTION: Notice of request for nominations.

SUMMARY: The U.S. Environmental Protection Agency's (EPA) Office of Intergovernmental Relations invites nominations from a diverse range of qualified candidates to be considered for appointment to its Local Government Advisory Committee (LGAC) and Small Communities Advisory Subcommittee (SCAS). LGAC and SCAS members and qualified nominees hold elected or appointed positions with local, tribal, state, and territorial governments. This notice solicits nominations to fill up to 30 memberships on EPA's LGAC and 10-15 on the SCAS throughout 2021.

DATES: To be considered for 2021 appointments, nominations should be submitted by April 16, 2021. Nominations are reviewed on an ongoing basis.

ADDRESSES: Submit nominations electronically to LGAC@epa.gov with a subject heading of `LGAC 2021 NOMINATION.'

FOR FURTHER INFORMATION CONTACT: Paige Lieberman, the LGAC Designated Federal Officer at (202) 564-9957/LGAC@epa.gov.

SUPPLEMENTARY INFORMATION: The LGAC is chartered under the Federal Advisory Committee Act (FACA), Public Law 92-463, to advise the EPA Administrator on environmental issues impacting local governments. The Small Communities Advisory Subcommittee is the LGAC's standing subcommittee to advise on issues of concern to smaller communities. Members of LGAC and SCAS will provide advice and recommendations on a broad range of issues related to our shared goals of promoting and protecting public health and the environment. These issues may include: Advancing environmental justice; ensuring access to clean air and water; reducing greenhouse gas emissions; bolstering resilience to the impacts of climate change; and limiting exposure to dangerous chemicals and pesticides.

Viable candidates must be current elected or appointed officials representing local, state, tribal or territorial governments. Additional criteria to be considered may include: Experience with multi-sector partnerships; coalition-building and grassroots involvement; involvement and leadership in national, state or regional intergovernmental associations; knowledge of and commitment to promoting environmental protection and public health issues, including those of communities of color and low-income communities; and leadership and implementation of federal, state, local, tribal, territorial and international environmental programs, including permitting programs, Brownfields, Superfund clean-up, air and water quality, solid waste management, emissions reduction, resiliency and adaptation, sustainability, and environmental justice programs. Diversity in vocational/career/volunteer background, professional and community affiliations, and demonstrated familiarity with local, regional, national, and international environmental issues, also may be considered.

LGAC members are appointed for 1-2-year terms and are eligible for reappointment. The Committee meets multiple times a year, typically with at least one in-person meeting. EPA is committed to prioritizing members' health and safety during the COVID-19 pandemic and will follow CDC guidelines when considering any in-person meeting. The Administrator may ask members to serve on Subcommittees and Workgroups to develop reports and recommendations to address specific policy issues, reflecting the priorities of the Administration. The average workload for members is approximately 5 hours per month. While EPA is unable to provide compensation for services, official Committee travel and related expenses (lodging, etc.) will be fully reimbursed.

Nominations: Nominations must be submitted in electronic format. To be considered, all nominations should include:

• Current contact information for the applicant/nominee, including name, organization (and position within that organization), current work address, email address, and daytime telephone number;

• Brief statement describing the nominee's interest in serving on the LGAC;

• Resume and/or short biography (no more than 2 pages) describing professional, educational, and other pertinent qualifications of the nominee, including a list of relevant activities as well as any current or previous service on advisory committees; and,

• Any letter(s) of recommendation from a third party (or parties) supporting the nomination. Letter(s) should describe how the nominee's experience and knowledge will bring value to the work of the LGAC.

Other sources, in addition to this Federal Register notice, may be utilized in the solicitation of nominees. EPA expressly values diversity, equity, and inclusion, and encourages the nominations of elected and appointed officials from diverse backgrounds so that the LGAC and SCAS look like America and reflect the country's rich diversity. Individuals may self-nominate.

Dated: March 2, 2021.
Julian (Jack) Bowles,
Director, State and Local Government Relations.

[FR Doc. 2021-04624 Filed 3-4-21; 8:45 am]

BILLING CODE P